DEPARTMENT OF LABOR

Mine Safety and Health Administration

Proposed Information Collection Request Submitted for Public Comment and Recommendations; Records of Tests and Examinations of Personnel Hoisting Equipment

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps ensure that requested data is provided in the desired format, reporting burden (time and financial resources) is minimized, collection instruments are clearly understood, and the impact of collection requirements on respondents can be properly assessed.

DATES: Submit comments on or before January 10, 2005.

ADDRESSES: Send comments to Melissa Stoehr, Acting Chief, Records Management Branch, 1100 Wilson Boulevard, Room 2134, Arlington, VA 22209-3939. Commenters are encouraged to send their comments on computer disk, or via e-mail to stoehr.melissa@dol.gov. Ms. Stoehr can be reached at (202) 693-9837 (voice), or (202) 693-9801 (facsimile).

FOR FURTHER INFORMATION CONTACT: Contact the employee listed in the ADDRESSES section of this notice.

SUPPLEMENTARY INFORMATION:

I. Background

These requirements provide for a record of specific test and inspections of a mine's personnel hoisting systems, including the wire rope, to ensure that the system remains safe to operate. Review of the record indicates whether deficiencies are developing in the equipment, in particular the wire rope, so that corrective action may be taken before an accident occurs. The requirements also provide for a systematic procedure for the inspection, testing, and maintenance of shaft and hoisting equipment. The mine operator must certify that the required inspections, tests, and maintenance have been made then record any unsafe condition identified during the examination or test.

The precise format in which the record is kept is left to the discretion of the mine operator. All records are made by the person conducting the required examination or test. Unless otherwise noted below, these records are to be retained for one year at the mine site.

II. Desired Focus of Comments

Currently, the Mine Safety and Health Administration (MSHA) is soliciting comments concerning the proposed extension of the information collection requirement related to Records of Tests and Examinations of Personnel Hoisting Equipment. MSHA is particularly interested in comments that:

• Evaluate whether the proposed collection of information is necessary for the proper performance of MSHA's functions, including whether the information has practical utility;

• Evaluate the accuracy of MSHA's estimate of the burden of the proposed collection of information, including the validity of the methodology and assumptions used;

• Suggest methods to enhance the quality, utility, and clarity of the information to be collected; and

• Address the use of appropriate automated, electronic, mechanical, or other technological collection techniques or other forms of information technology, (e.g., permitting electronic submissions of responses) to minimize the burden of the collection of information on those who are to respond.

A copy of the proposed information collection request can be obtained by contacting the employee listed in the ADDRESSES section of this notice or viewed on the Internet by accessing the MSHA home page (http://www.msha.gov) and then choosing “Statutory and Regulatory Information” and “Federal Register Documents.”

III. Current Actions

The information is used by industry management and maintenance personnel to project the expected safe service performance of hoist and shaft equipment; to indicate when maintenance and specific tests need to be performed; and to ensure that wire rope attached to the personnel conveyance is replaced in time to maintain the necessary safety for miners. Federal inspectors use the records to ensure that inspections are conducted, unsafe conditions identified early and corrected. The consequence of hoist or shaft equipment malfunctions or wire rope failures can result in serious injuries and fatalities. It is essential that MSHA inspectors be able to verify that mine operators are properly inspecting their hoist and shaft equipment and maintaining it in safe condition.

Type of Review: Extension.

Agency: Mine Safety and Health Administration.

Title: Record of Tests and Examinations of Personnel Hoisting Equipment.

OMB Number: 1219-0034.

Affected Public: Business or other for-profit.

Frequency: Daily, Bi-weekly, Bi-monthly, Semi-annually, On occasion.

Recordkeeping: One year.

Number of Respondents: 249.

Number of Responses: 252,484.

Estimated Time per Response: .27 hours.

Total Burden Hours: 67,698.

Total Annualized Capital/Startup Costs: $0.

Total Operating and Maintenance Costs: $298,800.

Comments submitted in response to this notice will be summarized and/or included in the request for Office of Management and Budget approval of the information collection request; they will also become a matter of public record.

Dated in Arlington, Virginia, this 22nd day of October 2004.
David L. Meyer,
Director, Office of Administration and Management.

[FR Doc. 04-24900 Filed 11-8-04; 8:45 am]

BILLING CODE 4510-43-P